ENVIRONMENTAL PROTECTION AGENCY

40 CFR Part 52

[EPA-R05-OAR-2006-0002; FRL-8166-9]

Approval and Promulgation of Air Quality Implementation Plans; Indiana

AGENCY: Environmental Protection Agency (EPA).

ACTION: Direct final rule.

SUMMARY: EPA is approving revisions to the Indiana particulate matter (PM10) State Implementation Plan (SIP). These revisions are for sources at the ASF Keystone, Inc. (Keystone) coil spring manufacturing facility in Lake County, Indiana. On December 15, 2005, Indiana requested revisions that will increase the PM10 emission limit for one unit and reduce the limits for two units. The changes result in a net decrease of 1.77 pounds PM10 per hour (lb/hr) in the allowable emissions. The emission limits for a fourth unit that has shut down were also removed. Indiana also requested removing the process weight rate limits and using lb/hr as the short-term emission limit. The maximum permissible PM10 emissions will not increase after removing the process weight rate limits because of the net decrease in short-term emission limits.

DATES: This direct final rule will be effective July 24, 2006, unless EPA receives adverse comments by June 22, 2006. If adverse comments are received, EPA will publish a timely withdrawal of the direct final rule in the Federal Register informing the public that the rule will not take effect.

ADDRESSES: Submit your comments, identified by Docket ID No. EPA-R05-OAR-2006-0002, by one of the following methods:

• http://www.regulations.gov: Follow the on-line instructions for submitting comments.

• E-mail: mooney.john@epa.gov.

• Fax: (312)886-5824.

• Mail: John M. Mooney, Chief, Criteria Pollutant Section, Air Programs Branch, (AR-18J), U.S. Environmental Protection Agency, 77 West Jackson Boulevard, Chicago, Illinois 60604.

• Hand Delivery: John M. Mooney, Chief, Criteria Pollutant Section, Air Programs Branch, (AR-18J), U.S. Environmental Protection Agency, 77 West Jackson Boulevard, Chicago, Illinois 60604. Such deliveries are only accepted during the Regional Office's normal hours of operation, and special arrangements should be made for deliveries of boxed information. The Regional Office's official hours of business are Monday through Friday, 8:30 a.m. to 4:30 p.m. excluding Federal holidays.

Instructions: Direct your comments to Docket ID No. EPA-R05-OAR-2006-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Matt Rau, Environmental Engineer, at (312) 886-6524 before visiting the Region 5 office.

SUPPLEMENTARY INFORMATION: Throughout this document whenever “we,” “us,” or “our” is used, we mean EPA. This supplementary information section is arranged as follows:

I. What Should I Consider as I Prepare My Comments for EPA?

II. What Is EPA Approving?

III. What Is EPA's Analysis of the Supporting Materials?

IV. What are the Environmental Effects of These Actions?

V. What Action is EPA Taking Today?

VI. Statutory and Executive Order Reviews.

I. What Should I Consider as I Prepare My Comments for EPA?

A. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

B. Tips for Preparing Your Comments. When submitting comments, remember to:

• Identify the rulemaking by docket number and other identifying information (subject heading, Federal Register date and page number).

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. What Is EPA Approving?

EPA is approving PM10 emission limit revisions for four units at the Keystone facility. The limit on the small coil manufacturing unit increases from 0.02 to 1.05 lb/hr. The limits on the medium and large coil lines are cut in half. The medium coil unit limit drops from 2.10 to 1.05 lb/hr. The limit on the large coil unit is reduced from 3.50 to 1.75 lb/hr. A net PM10 limit decrease of 1.77 lb/hr results from these revisions. The limit on the miscellaneous coil manufacturing unit, 1.05 lb/hr, is also removed because the unit no longer operates. The revised PM10 emission limits better reflect the actual emissions from these units. EPA is also removing the process weight rate emission limits for the four units. The small coil unit limit of 0.014 lb/T and the limits of 0.700 lb/T for the other three units are being deleted.

III. What Is EPA's Analysis of the Supporting Materials?

The emission limit revisions to the coil manufacturing units can be modeled as volume sources. Each unit is controlled by an electrostatic precipitator that exhausts inside the plant. Rooftop vents release the air from inside the plant to the outside. Indiana stated that no modeling is needed. EPA agrees with Indiana because the PM10 emissions from all units combine in Keystone's building prior to being released into the ambient air. The net limit reduction means the maximum impact will not increase.

Indiana also provided the maximum production rates for the coil manufacturing units. The peak rate for the small coil line is 1.5 tons per hour (T/hr). The maximum production rate is 3 T/hr for the medium coil line and 5 T/hr for the large coil line. The short-term emission limits being replaced equal the process weight rate limit at these maximum production rates. Thus, Keystone would not be able to emit up to the new limit of 1.05 lb/hr on the small coil manufacturing unit because the process weight rate limit would restrict emissions to only 0.02 lb/hr. The lower short-term limits on medium and large coil manufacturing units are more restrictive than the process weight rate limits for these two units. The net decrease in short-term PM10 emission limits will reduce the overall maximum emissions from this facility.

Indiana held public hearings on June 1, 2005 and on August 3, 2005. No public comments were received during the comment periods including at the public hearings.

IV. What Are the Environmental Effects of These Actions?

Scientists have correlated exposure to PM10 with increased hospitalizations for asthma attacks, worsening of lung disease, chronic bronchitis, and heart damage. Particulate exposure can increase respiratory symptoms such as irritation of the airways, coughing, and difficulty breathing. In addition to these human health effects, particulate matter is the main cause of haze which decreases visibility. Particulate eventually settles on land or water which can acidify lakes, deplete the nutrients in soil, and damage sensitive forests and agricultural crops. No adverse impact from PM10 emissions are anticipated from the Keystone revisions because of a net decrease in PM10 emission limits.

V. What Action Is EPA Taking Today?

EPA is approving revisions to the PM10 limits for sources at a Lake County, Indiana steel coil manufacturer. The revisions result in a net reduction in the PM10 emission limits. The limit for the small coil manufacturing unit is increased while the limits for the medium and large coil units are decreased. The emission limits for the miscellaneous coil manufacturing are removed because the unit was eliminated. EPA also removed the process weight rate emission limits for all four units. The PM10 emissions from the units are vented inside the Keystone plant. No adverse impact on ambient air is expected because the revisions cause a net reduction in PM10 emission limits.

We are publishing this action without prior proposal because we view this as a noncontroversial amendment and anticipate no adverse comments. However, in the proposed rules section of this Federal Register publication, we are publishing a separate document that will serve as the proposal to approve the state plan if relevant adverse written comments are filed. This rule will be effective July 24, 2006 without further notice unless we receive relevant adverse written comments by June 22, 2006. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective July 24, 2006.

VI. Statutory and Executive Order Reviews

Executive Order 12866; Regulatory Planning and Review

Under Executive Order 12866 (58 FR 51735, October 4, 1993), this action is not a “significant regulatory action” and therefore is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175 Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132 Federalism

This action also does not have Federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Clean Air Act.

Executive Order 13045 Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 24, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter.

Dated: April 20, 2006.
Norman Niedergang,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart P—Indiana

2. Section 52.770 is amended by adding paragraph (c)(175) to read as follows:

§ 52.770 Identification of plan.

* * * * *

(c) * * *

(175) On December 15, 2005, Indiana submitted revised particulate matter (PM10) regulations for ASF Keystone, Inc. in Lake County. The emission limit for the small coil manufacturing unit is increased while the limits for the medium and large coil manufacturing units are decreased. The result of these revisions is a net decrease in PM10 emission limits. The emission limits for miscellaneous coil manufacturing are removed because the unit no longer operates. EPA also removed the process weight rate emission limits for the four units.

(i) Incorporation by reference.

(A) Indiana Administrative Code Title 326: Air Pollution Control Board, Article 6.8: Particulate Matter Limitations for Lake County, Rule 2: Lake County: PM10 Emission Requirements, Section 4: ASF Keystone, Inc.-Hammond. Filed with the Secretary of State on October 20, 2005 and effective November 19, 2005. Published in 29 Indiana Register 794 on December 1, 2005.

[FR Doc. 06-4765 Filed 5-22-06; 8:45 am]

BILLING CODE 6560-50-P